DEPARTMENT OF AGRICULTURE

Forest Service

Huron-Manistee National Forests, Michigan, White Pines Wind Farm Project

AGENCY: Forest Service, USDA.

ACTION: Notice of intent to prepare an environmental impact statement.

SUMMARY: The Forest Service has accepted an application for a special use authorization from White Pines Wind Farm LLC for the installation and operation of 20 to 28 wind turbines and associated infrastructure to provide between 50 and 70 megawatts (MW) of wind energy on National Forest System (NFS) lands managed by the Huron-Manistee National Forests. The White Pines Wind Farm Project (the Project) would occupy approximately 75 acres of NFS land within a Project Area of about 10,000 acres on the Cadillac-Manistee Ranger District over its proposed 30-year life.

DATES: Comments concerning the scope of the analysis must be received by October 12, 2008. The draft environmental impact statement is expected May 2009 and the final environmental impact statement is expected December 2009.

ADDRESSES: Send written comments to Patricia O'Connell, Interdisciplinary Team Leader, Cadillac-Manistee Ranger District, Huron-Manistee National Forests, 412 Red Apple Road, Manistee, MI 49660; fax: 231-723-8642. Send electronic comments to: comments-eastern-huron-manistee-manistee@fs.fed.us.

FOR FURTHER INFORMATION CONTACT: Patricia O'Connell, Cadillac-Manistee Ranger District, Huron-Manistee National Forests; telephone: 231-723-2211, ext. 3119; fax: 231-723-8642. See address above under ADDRESSES. Copies of documents may be requested at the same address. Another means of obtaining information is to visit the Forest Web page at http://www.fs.fed.us/r9/hmnf then click on “Project and Planning,” then “Cadillac and Manistee Projects,” and then “White Pines Wind Farm Project.”

SUPPLEMENTARY INFORMATION:

Purpose and Need for Action

The purpose of this project is to respond to an application for a special use authorization submitted by White Pines Wind Farm LLC to develop a wind farm on National Forest System lands within the Huron-Manistee National Forests. White Pines Wind Farm LLC proposes to generate 50 to 70 MW of wind energy by constructing and operating between 20 and 28 wind turbines, in proximity to existing distribution facilities (utility grid), in an area with an adequate wind resource on National Forest System lands with consolidated ownership. The proposed project is needed to help meet Michigan's and the region's growing demand for reliable sources of clean, cost-effective, renewable energy. The project is consistent with the Huron-Manistee National Forests' Land and Resource Management Plan and with Forest Service objectives for management of special uses on National Forest System lands.

Proposed Action

White Pines is proposing to install and operate the Project on land located mostly within the boundaries of the Huron-Manistee National Forests. The Project proposes construction of the wind turbines and associated infrastructure in April 2010, with an anticipated in-service date of December 2010, and operation of the facility for an estimated service life of 30 years.

The vast majority of the Project's facilities and activities would occur on National Forest System lands on the Cadillac-Manistee Ranger District of the Forest. A portion of the Project's transmission line route would be located off of National Forest System lands. In addition, it would be necessary to expand the public road system to support development of the Project.

The Project would consist of the construction, installation, operation, and maintenance of 28 new state-of-the-art 2.5 MW wind turbines, which would have a combined power generating capacity of 70 MW (at peak capacity). The Project is proposing to use the Clipper Class II Liberty Series 2.5 MW Wind Turbine, which are manufactured domestically in Iowa. It is feasible that a higher megawatt turbine could become available and be utilized for this Project. If available in the future, turbines with a larger capacity would be located within the existing array plan footprint and would not affect the overall maximum Project power generating capacity of 70 MW.

Each turbine is comprised of three components—the tower, the nacelle, and the rotor blades. The turbines use a tubular steel tower, with a hub height of 262 feet. The tower is topped by the nacelle, which houses the turbine's mechanical components. The rotor, mounted on the nacelle, consists of three fiberglass blades 153 feet in length and has a rotor diameter of 315 feet. The total height of the wind turbines would be approximately 420 feet above a concrete foundation base. Each turbine would be anchored to a 60 foot diameter concrete foundation of which a 20-foot diameter pedestal would be visible above ground. A pad mounted step-up transformer would be located on each concrete foundation base to increase the voltage from each wind turbine generator to 34.5 kilovolt (kV). The area of the total disturbed footprint per turbine, including clearing and grubbing of vegetation, would have a radius of approximately 125 feet, for an aggregate footprint of about 1.1 acres per wind turbine foundation during construction. Subsequent to construction, the turbine footprint area would be reduced to less than 0.2 acres.

In addition to the turbines, the Project would consist of the following components:

• Approximately 9 miles of road reconstruction to existing roads (3 miles of Forest Service roads and 6 miles of County roads) and approximately 5 miles of new road construction would occur on NFS lands. During construction of the Project, these roads would be widened and cleared to approximately 40 feet to allow for equipment delivery and crane transport between turbine locations. However, to allow for the installation of the collection system and drainage, some of these roads may be cleared to approximately 80 feet. Road reclamation and revegetation would be performed at the end of construction to reduce access roads to standards mutually agreed upon with the appropriate road agencies (i.e., Forest Service and Mason County). Roads would remain accessible, to the extent practicable, to the public. The new roads for the Project would be permanent roads added to the road system on NFS lands.

• Installation of over 40 miles of 34.5 kV underground electrical interconnections between turbines to collect and deliver electricity to a new substation. Where practicable, the underground electrical collection system would be installed along the same right-of-way (RoW) corridor as the access roads. In addition, fiber optic communication lines would be installed along with the electrical collection system to monitor the operation of the wind farm. No additional clearing beyond that described for the roadway clearing would be required for the installation of the electrical collection system and fiber optic lines between turbines.

• A step-up transformer at each turbine location plus one transformer for the electrical substation site. Each step-up transformer would be located on the concrete foundation base.

• An electrical substation on a 5-acre parcel would be constructed on NFS lands within the Project Area to step up the electrical collection system voltage to the existing local transmission line voltage.

• An above ground, 138 kV transmission line to connect the proposed wind farm substation to the existing Pere Marquette-Stronach 138-kV transmission line running north-south and located east of the Project Area. The transmission line would have a RoW corridor of approximately 150 feet. Approximately 3 miles of the transmission line would be located on NFS lands and approximately 2 miles of the line would cross private lands.

• Three 199-foot tall meteorological monitoring towers have been constructed and are currently collecting data within the Project Area boundary. At the completion of the Project, 1 to 3 meteorological towers would remain within the Project Area during the life of the Project.

• Three temporary staging areas would be located within the Project Area for construction-related temporary facilities, which include a concrete batch plant and cleared areas for construction parking, equipment laydown, and construction management trailers. These areas, totaling approximately 10 acres, would be restored and revegetated upon completion of construction.

• A second electrical substation would be needed at the end of the 138 kV transmission line to tie into the existing 138 kV overhead transmission line. This substation would be located on private land outside of the Project Area.

In addition to these facilities, the Project development process would also involve upgrading local transportation infrastructure to accommodate the expected size of construction materials. At this time, it is anticipated that the infrastructure upgrades would be minor in scale (e.g., increased turning radius at road intersections).

The Project area boundary encompasses a total of approximately 10,024 acres, of which 8,600 acres are within the NFS lands within the Cadillac-Manistee Ranger District. The Project components described above would be sited within this Project Area boundary and would occupy a permanent footprint of approximately 75 acres of NFS lands. Consideration of species management and habitat, water resources, cultural resources, visuals, public access and safety, maximization of existing facilities, and the layout of buried and above ground facilities have been incorporated as part of the Project design to the extent practicable and would be evaluated through the National Environmental Policy Act (NEPA) site-specific environmental analysis process.

Responsible Official

Barry Paulson, Forest Supervisor, Huron-Manistee National Forests, 1755 S. Mitchell Street, Cadillac, MI 49601.

Nature of Decision To Be Made

White Pines Wind Farm LLC has submitted an application to the Forest Service for a Special Use authorization seeking approval to occupy and use NFS lands for the purpose of constructing and operating a wind power facility on the Huron-Manistee National Forests. The decision to be made is whether to grant the authorization for the construction and operation activities as proposed, or as modified by an alternative to the proposed action, or to deny granting the authorization.

Scoping Process

The Forest Service plans to scope for information by contacting persons and organizations interested or potentially affected by the proposed action by using mailings, public announcements, and personal contacts. In addition, two separate public scoping meetings will be held to collect public input on the scope of this project:

Scoping Meeting #1: September 30, 2008, at the Ramada Inn, 4079 W. U.S. 10, Ludington, MI. An open house format will be used. The public is welcome between 4 p.m. and 7 p.m.

Scoping Meeting #2: October 1, 2008, at the Days Inn, 1462 U.S. Hwy. 31, Manistee, MI. An open house format will be used. The public is welcome between 4 p.m. and 7 p.m.

Comment Requested

This notice of intent initiates the scoping process which guides the development of the environmental impact statement. The primary purpose of scoping is to gather public comments, issues, and concerns regarding the proposed action. We are especially interested in information that might identify a specific undesired result of implementing the proposed action. Comments will be used to help formulate alternatives to the proposed action. Please make your written comments as specific as possible as they relate to the proposed action, and include your name, address, and if possible, telephone number and e-mail address. Comments received in response to this solicitation, including names and addresses of those who comment, will be considered part of the public record on this proposed action and will be available for public inspection. Comments submitted anonymously will be accepted and considered; however, those who submit anonymous comments will not have standing to appeal the subsequent decisions under 36 CFR parts 215 or 217. Additionally, pursuant to 7 CFR 1.27(d), any persons may request the agency to withhold a submission from the public record by showing how the FOIA (Freedom of Information Act) permits such confidentiality. Persons requesting such confidentiality should be aware that under FOIA confidentiality may be granted in only very limited circumstances, such as to protect trade secrets. The Forest Service will inform the requester of the agency's decision regarding the request for confidentiality and, should the request be denied, return the submission and notify the requester that the comments may be resubmitted with or without name and address within 90 days.

Early Notice of Importance of Public Participation in Subsequent Environmental Review: A draft environmental impact statement will be prepared for comment. The comment period on the draft environmental impact statement will be 45 days following the date the Environmental Protection Agency publishes the notice of availability in the Federal Register. The Forest Service believes, at this early stage, that it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

Authority: 40 CFR 1501.7 and 1508.22; Forest Service Handbook 1909.15, Section 21.

Dated: August 22, 2008.
Barry Paulson,
Forest Supervisor.

[FR Doc. E8-20764 Filed 9-11-08; 8:45 am]

BILLING CODE 3410-11-P